DEPARTMENT OF TRANSPORTATION

Federal Aviation Administration

14 CFR Part 121

[Docket No. FAA-2002-11301; Notice No. 04-05]

Antidrug and Alcohol Misuse Prevention Programs for Personnel Engaged in Specified Aviation Activities

AGENCY: Federal Aviation Administration (FAA), DOT.

ACTION: Policy statement.

SUMMARY: Until July 29, 2004, the FAA will continue to recognize the antidrug plan number for certain repair stations. This policy applies to any repair station that is conducting testing under the FAA's drug and alcohol regulations but does not hold an Antidrug and Alcohol Misuse Prevention Program Operations Specification. Because of administrative issues, the FAA has not been able to issue this Operations Specification to some repair stations before the February 11, 2004, implementation date set by the FAA.

DATES: This policy is effective from February 11, 2004, to July 29, 2004.

FOR FURTHER INFORMATION CONTACT: Diane J. Wood, Manager, AAM-800, Drug Abatement Division, Office of Aerospace Medicine, Federal Aviation Administration, 800 Independence Ave. SW., Washington, DC 20591, Telephone (202) 267-8442.

SUPPLEMENTARY INFORMATION:

Availability of Documents

You can get an electronic copy of this document using the Internet by:

(1) Searching the Department of Transportation's electronic Docket Management System (DMS) web page (http://dms.dot.gov/search); or (2)Visiting the Office of Rulemaking's web page at http://www.faa.gov/avr/arm/index.cfm; or

(3) Accessing the Government Printing Office's web page at //www.access.gpo.gov/su_docs/aces/aces140.html.

You can also get a copy by submitting a request to the Federal Aviation Administration, Office of Rulemaking, ARM-1, 800 Independence Avenue SW., Washington, DC 20591, or by calling (202) 267-9680. Make sure to identify the Notice number or docket number of this proceeding.

Anyone is able to search the electronic form of all comments received into any of our dockets by the name of the individual submitting the comment (or signing the comment, if submitted on behalf of an association, business, labor union, etc.). You may review DOT's complete Privacy Act statement in the Federal Register published on April 11, 2000 (Volume 65, Number 70; Pages 19477-78) or you may visit http://dms.dot.gov.

Background

On January 12, 2004, the FAA issued a final rule entitled, “Antidrug and Alcohol Misuse Prevention Programs for Personnel Engaged in Specified Aviation Activities” (69 FR 1840). This final rule amended 14 CFR part 121, appendices I and J, the “Drug Testing Program” and the “Alcohol Misuse Prevention Program” regulations. In the final rule, the FAA required an Antidrug and Alcohol Misuse Prevention Program Operations Specification (OpSpec) for all part 121 and 135 certificate holders and any part 145 repair station opting to conduct drug and alcohol testing under the FAA's regulations. The final rule was effective February 11, 2004.

For administrative reasons, the FAA has not been able to issue the Antidrug and Alcohol Misuse Prevention Program OpSpec to some part 145 repair stations by the effective date of the final rule. However, we will complete issuance of this OpSpec to the remaining part 145 repair stations no later than July 29, 2004.

Discussion

Some existing part 145 repair stations that already have an FAA antidrug plan number have been told by their Principal Maintenance Inspectors (PMIs) that the FAA could not issue an Antidrug and Alcohol Misuse Prevention Program OpSpec by February 11, 2004. The FAA was not able to issue some Antidrug and Alcohol Misuse Prevention Program OpSpecs in a timely manner. Therefore, the FAA will continue to recognize the antidrug plan numbers of part 145 repair stations that are conducting testing under 14 CFR part 121, appendices I and J, until their PMIs can issue them the Antidrug and Alcohol Misuse Prevention Program OpSpec. This policy does not extend the effective date of the final rule. Instead, it merely recognizes that some part 145 repair stations have tried to obtain the Antidrug and Alcohol Misuse Prevention Program OpSpec but were unable to do so because of administrative issues within the FAA.

Conclusion

Until July 29, 2004, the FAA will continue to recognize the antidrug plan number for certain part 145 repair stations. This policy applies to any repair station that is conducting testing under 14 CFR part 121, appendices I and J, but that has not yet been able to obtain the Antidrug and Alcohol Misuse Prevention Program OpSpec from its PMI. Employers regulated by 14 CFR part 121, appendices I and J should similarly continue to recognize the antidrug plan number for any such part 145 repair station.

Issued in Washington, DC, on March 18, 2004.
Jon L. Jordan,
Federal Air Surgeon.

[FR Doc. 04-6456 Filed 3-22-04; 8:45 am]

BILLING CODE 4910-13-P